DEPARTMENT OF COMMERCE

National Oceanic and Atmospheric Administration

RIN 0648-XC078

Endangered Species; File No. 17183

AGENCY: National Marine Fisheries Service (NMFS), National Oceanic and Atmospheric Administration (NOAA), Commerce.

ACTION: Issuance of permit.

SUMMARY: Notice is hereby given that Raymond Carthy, Ph.D., University of Florida, Florida Cooperative Fish and Wildlife Research Unit, 117 Newins-Ziegler Hall, P.O. Box 110450, Gainesville, FL 32611, has been issued a permit to take green (Chelonia mydas), loggerhead (Caretta caretta), hawksbill (Eretmochelys imbricata), and Kemp's ridley (Lepidochelys kempii) sea turtles for purposes of scientific research.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave South, St. Petersburg, FL 33701; phone (727) 824-5312; fax (727) 824-5309.

FOR FURTHER INFORMATION CONTACT: Colette Cairns or Amy Hapeman, (301) 427-8401.

SUPPLEMENTARY INFORMATION: On July 2, 2012, notice was published in the Federal Register (77 FR 39220) that a request for a scientific research permit to take green, loggerhead, hawksbill, and Kemp's ridley sea turtles had been submitted by the above-named individual. The requested permit has been issued under the authority of the Endangered Species Act of 1973, as amended (ESA; 16 U.S.C. 1531 et seq.) and the regulations governing the taking, importing, and exporting of endangered and threatened species (50 CFR parts 222-226).

Dr. Carthy has been issued a five-year permit to continue long-term research on the demographics and movements of green, loggerhead, hawksbill, and Kemp's ridley sea turtles off the northwest coast of Florida. Researchers are authorized to capture sea turtles annually by strike net, tangle net, dip net or hand capture. Captured sea turtles may be measured, weighed, passive integrated transponder tagged, flipper tagged, epibiota sampled, tissue sampled, blood sampled, gastric lavaged, carapace marked, photographed, and released. A subset of sea turtles may be fitted with telemetry tags—either a satellite tag or an acoustic tag with an accelerometer.

Issuance of this permit, as required by the ESA, was based on a finding that such permit (1) Was applied for in good faith, (2) will not operate to the disadvantage of such endangered or threatened species, and (3) is consistent with the purposes and policies set forth in section 2 of the ESA.

Dated: April 30, 2013.
P. Michael Payne,
Chief, Permits and Conservation Division, Office of Protected Resources, National Marine Fisheries Service.

[FR Doc. 2013-10540 Filed 5-3-13; 8:45 am]

BILLING CODE 3510-22-P